DEPARTMENT OF ENERGY

Federal Energy Regulatory Commission

[Docket No. IC00-500-001, FERC-500]

Information Collection Submitted for Review and Request for Comments

May 12, 2000.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under the provisions of Section 3507 of the Paperwork Reduction Act of 1995 (Pub. L. No. 104-13). Any interested person may file comments on the collection of information directly with OMB and should address a copy of those comments to the Commission, as explained below. The Commission received comments from two entities in response to an earlier Federal Register notice of November 9, 1999 (64 FR 62184-85) and has responded to those comments in this submission.

DATES: Comments regarding this collection are best assured of having their full effect if received on or before June 10, 2000.

ADDRESSES: Address comments to Office of Management and Budget, Office of Information and Regulatory Affairs, Attention: Federal Energy Regulatory Commission Desk Officer, 725 17th Street, NW, Washington, DC 20503. A copy of the comments should also be sent to Federal Energy Regulatory Commission, Office of the Chief Information Officer, Attention: Mr. Michael Miller, CI-1, 888 First Street, NE, Washington, DC 20426. Mr. Miller may be reached by telephone at (202)208-1415 and by e-mail at mike.miller@ferc.fed.us.

SUPPLEMENTARY INFORMATION:

Description

The energy information collection submitted to OMB for review contains:

1. Collection of Information: FERC-500, “Application for License, Relicense for Water Projects with More than 5 MW Capacity.”

2. Sponsor: Federal Energy Regulatory Commisison.

3. Control No.: 1902-0058. The Commission is now requesting that OMB approve a three year extension of the expiration date, with no changes to the existing collection. This is a mandatory collection requirement.

4. Necessity of Collection of Information: Submission of the information is necessary to fulfill the requirements of Part I of the Federal Power Act (FPA) in order for the Commission to make the required finding that the proposal is economically sound, is best adopted to a comprehensive plan for improving/developing a waterway or waterways. Under Part I of the FPA (16 U.S.C. sections 79a et seq.), the Commission has the authority to issue licenses for hydroelectric projects on the waters over which Congress has jurisdiction. The Electric Consumers Protection Act (ECPA) (Pub. L. 99-495, 100 Stat. 1243) provides the Commission with the responsibility of issuing licenses for nonfederal hydroelectric plants. ECPA also amended the language of the EPA concerning environmental issues to ensure environmental quality. The information collected under FERC-500 is used by the Commission to determine the broad impact of a hydropower license application.

5. Respondent Description: The respondent universe currently comprises on average, 9 applicants for a hydropower license/relicense.

6. Estimated Burden: 15,276 total burden hours, 9 respondents 1 response (on occasion), 1,697 hours per response (rounded off).

7. Estimated Cost to Burden to Respondents: The estimated cost burden to respondents: 15,276÷2080 hours per year×$111,545 per year=$819,212.

Statutory Authority: Sections 4(e), 9, 10, 14 and 15 of the Federal Power Act (FPA), 16 U.S.C. Sections 791a et seq. and Energy Consumers Protection Act, Pub. L. 99-495, 100 Stat. 1243

Linwood A. Watson, Jr.,
Acting Secretary.

[FR Doc. 00-12470 Filed 5-17-00; 8:45 am]

BILLING CODE 6717-01-M